DEPARTMENT OF DEFENSE

Office of the Secretary

Department of Defense Science and Technology Reinvention Laboratory Personnel Demonstration Project

AGENCY: Office of the Under Secretary of Defense for Research and Engineering (OUSD (R&E)), Department of Defense (DoD).

ACTION: This notice documents an enhanced pay authority for all science and technology reinvention laboratory (STRL) personnel demonstration (demo) projects authorized pursuant to section 4121 of title 10, United States Code (U.S.C.).

SUMMARY: STRLs with published demonstration project plans may implement the enhanced pay authority for positions classified above the GS-15 equivalent level, as described within this notice.

DATES: Implementation will begin no earlier than July 6, 2022.

FOR FURTHER INFORMATION CONTACT:

Department of Defense:

• Office of the Under Secretary of Defense (Research and Engineering), DoD Laboratories, FFRDCs & UARCs Office: Dr. Ben Petro, 571-286-6265, James.B.Petro.civ@mail.mil.

Department of the Air Force:

• Air Force Research Laboratory: Ms. Rosalyn Jones-Byrd, 937-656-9747, Rosalyn.Jones-Byrd@us.af.mil.

• Joint Warfare Analysis Center: Ms. Amy Balmaz, 540-653-8598, Amy.T.Balmaz.civ@mail.mil.

Department of the Army:

• Army Futures Command: Ms. Marlow Richmond, 830-469-2057, Marlowe.Richmond.civ@army.mil.

• Army Research Institute for the Behavioral and Social Sciences: Dr. Scott Shadrick, 254-288-3800, Scottie.B.Shadrick.civ@army.mil.

• Combat Capabilities Development Command Armaments Center: Mr. Mike Nicotra, 973-724-7764, Michael.J.Nicotra.civ@mail.mil.

• Combat Capabilities Development Command Army Research Laboratory: Mr. Christopher Tahaney, 410-278-9069, Christopher.S.Tahaney.civ@army.mil.

• Combat Capabilities Development Command Aviation and Missile Center: Ms. Nancy Salmon, 256-876-9647, Nancy.C.Salmon2.civ@army.mil.

• Combat Capabilities Development Command Chemical Biological Center: Ms. Patricia Milwicz, 410-417-2343, Patricia.L.Milwicz.civ@army.mil.

• Combat Capabilities Development Command Command, Control, Communications, Computers, Cyber, Intelligence, Surveillance, and Reconnaissance Center: Ms. Angela Clybourn, 443-395-2110, Angela.M.Clyborn.civ@army.mil.

• Combat Capabilities Development Command Ground Vehicle Systems Center: Ms. Jennifer Davis, 586-306-4166, Jennifer.L.Davis1.civ@army.mil.

• Combat Capabilities Development Command Soldier Center: Ms. Joelle Montecalvo, 508-206-3421, Joelle.K.Montecalvo.civ@army.mil.

• Engineer Research and Development Center: Ms. Patricia Sullivan, 601-634-3065, Patricia.M.Sullivan@usace.army.mil.

• Medical Research and Development Command: Ms. Linda Krout, 301-619-7276, Linda.J.Krout.civ@mail.mil.

• Technical Center, Space and Missile Defense Command: Dr. Chad Marshall, 256-955-5697, Chad.J.Marshall.civ@army.mil.

Department of the Navy:

• Naval Air Warfare Center, Weapons Division and Aircraft Division: Mr. Richard Cracraft, 760-939-8115, Richard.A.Cracraft2.civ@us.navy.mil.

• Naval Facilities Engineering Command Engineering and Expeditionary Warfare Center: Ms. Lori Leigh, 805-901-5917, Lori.A.Leigh@us.navy.mil.

• Naval Information Warfare Centers:

○ Naval Information Warfare Center Atlantic: Mr. Michael Gagnon, 843-218-3871, Michael.L.Gagnon2.civ@us.navy.mil.

○ Naval Information Warfare Center Pacific: Ms. Angela Hanson, 619-553-0833, Angela.Y.Hanson.civ@us.navy.mil.

• Naval Medical Research Center: Dr. Jill Phan, 301-319-7645, Jill.C.Phan.civ@mail.mil.

• Naval Research Laboratory: Ms. Ginger Kisamore, 202-767-3792, Ginger.Kisamore@nrl.navy.mil.

• Naval Sea Systems Command Warfare Centers: Ms. Diane Brown, 215-897-1619, Diane.J.Brown.civ@us.navy.mil.

• Office of Naval Research: Ms. Margaret J. Mitchell, 703-588-2364, Margaret.J.Mitchell@navy.mil.

SUPPLEMENTARY INFORMATION:

1. Background

As authorized by section 4121 of title 10, United States Code (U.S.C.), the Secretary of Defense (SECDEF), through the USD(R&E), may conduct personnel demonstration projects at DoD laboratories designated as STRLs.

STRLs implementing the flexibility described herein must have an approved personnel demonstration project plan published in a Federal Register Notice (FRN) and must fulfill any collective bargaining obligations. Each STRL will establish internal operating procedures (IOPs) as appropriate.

The 21 current STRLs are:

• Air Force Research Laboratory

• Joint Warfare Analysis Center

• Army Futures Command

• Army Research Institute for the Behavioral and Social Sciences

• Combat Capabilities Development Command Armaments Center

• Combat Capabilities Development Command Army Research Laboratory

• Combat Capabilities Development Command Aviation and Missile Center

• Combat Capabilities Development Command Chemical Biological Center

• Combat Capabilities Development Command Command, Control, Communications, Computers, Cyber, Intelligence, Surveillance, and Reconnaissance Center

• Combat Capabilities Development Command Ground Vehicle Systems Center

• Combat Capabilities Development Command Soldier Center

• Engineer Research and Development Center

• Medical Research and Development Command

• Technical Center, US Army Space and Missile Defense Command

• Naval Air Systems Command Warfare Centers

• Naval Facilities Engineering Systems Command Engineering and Expeditionary Warfare Center

• Naval Information Warfare Centers, Atlantic and Pacific

• Naval Medical Research Center

• Naval Research Laboratory

• Naval Sea Systems Command Warfare Centers

• Office of Naval Research

2. Overview

I. Introduction

A. Purpose

With the approval of the service acquisition executive of the military department concerned, the STRLs may fill a specified number of positions using an enhanced pay authority in order to assist the military departments in attracting and retaining high-quality acquisition and technology experts in positions responsible for managing and performing complex, high-cost, research and technology development efforts in the STRLs.

B. Required Waivers to Law and Regulation

Pursuant to 10 U.S.C. 4121(a)(3), the Secretary of Defense is not limited by any lack of specific authority under 5 U.S.C., or any inconsistent provision of 5 U.S.C., related to prescribing the method of classifying positions and compensating or incentivizing employees. Pursuant to 10 U.S.C. 4121(a)(5), the pay limitations in 5 U.S.C. 5373, do not apply to the authority of the Secretary to prescribe salary schedules and other related benefits. Waivers and adaptations of any 5 U.S.C., provision and any rule or regulation prescribed under this title are required only to the extent that these statutory and regulatory provisions limit or are inconsistent with the actions authorized herein.

C. Participating Organizations and Employees

All DoD laboratories designated as STRLs by 10 U.S.C. 4121(b), as well as any additional laboratories designated as STRLs by SECDEF, with approved personnel demonstration project plans published in FRNs, may use the provisions described in this FRN.

II. Personnel System Changes

A. Description and Implementation

This authority may be used only to the extent necessary to competitively recruit or retain individuals exceptionally well qualified for positions as described herein. This authority may only be used for a total of 20 STRL positions across all DoD Components at any one time. Each Military Department may use the authority for up to five positions unless the USD(R&E) authorizes its use for additional positions.

The enhanced pay authority may be carried out only with approval of the service acquisition executive of the military department concerned. Implementation, as described herein, may be delegated to the STRL commander/director.

The positions eligible under this authority are positions that:

(a) Require expertise of an extremely high level in a scientific, technical, professional, or acquisition management field; and

(b) Are critical to the successful accomplishment of an important research or technology development mission.

The service acquisition executive of the military department concerned may approve a rate of basic pay up to 150 percent of the rate of basic pay payable for Level I of the Executive Schedule. Upon approval of the secretary of the military department concerned, the rate of basic pay may be fixed at a rate in excess of 150 percent of the rate of basic pay payable for Level I of the Executive Schedule.

The position classification document will describe the important, regular and recurring duties and responsibilities assigned to the position. Positions classified under this authority are in the competitive service, are above a grade equivalent to GS-15, and are in the AD (administratively determined) pay plan. Classification authority for these positions resides with the STRL Director.

Public notice or other recognized recruitment sources (e.g. recruiter/headhunter, STRL website, professional journal publication, etc.) will be used to advertise positions approved for use of this authority. Applicable direct hire authorities may be used to appoint candidates.

Qualified individuals are those individuals who meet the minimum education requirements for the position as published in the Office of Personnel Management (OPM) operating manual, “Qualification Standards for General Schedule Positions”, and who possess high-level experience managing and performing complex, high-cost research and technology development efforts.

Appointments using this authority will be temporary or term appointments. Temporary appointments are for a period of less than one year. Term appointments are for a period of more than one year and less than five years in duration. The first two years of a new term appointment will serve as the employee's trial period. Individuals appointed under this authority are eligible for employee programs and benefits comparable to those provided to similar employees at each STRL.

An employee appointed to a position using this authority may receive annual and/or merit pay increases, provided the rate of basic pay does not exceed 150 percent of the rate of basic pay payable for Level I of the Executive Schedule or the increased rate of basic pay is approved by the secretary of the military department concerned. Rates of basic pay established under this authority may be adjusted without higher level approval by the same percentage rate authorized in the annual pay adjustment for Level I of the Executive Schedule, as provided in an Executive Order or an act of Congress. Recruitment, relocation and retention incentives may be utilized in order to attract and retain individuals possessing the caliber of experience required of these positions. The aggregate limitation on pay in 5 U.S.C. 5307, is waived to permit payment of allowances, differentials, bonuses, awards or other similar cash payments when such payments would cause the total pay (basic pay and other cash payments) in a calendar year to exceed Level I of the Executive Schedule. Each STRL will document pay setting criteria in internal operating procedures.

Each STRL will develop performance plans to evaluate individuals appointed using this pay authority.

(a) The performance plan will identify performance/contribution factors that identify the successful outcomes of the organization's strategic goals and the position's assigned duties.

(b) The performance plan may provide a means for merit pay increases.

(c) Each STRL will determine the appropriate performance appraisal period under its respective appraisal program for individuals evaluated under this pay authority.

Appointments are documented citing the legal authority code (LAC)/legal authority used to appoint the individual (e.g., STRL direct hire authority) and Z2U/10 U.S.C. 4121. Grade and step are documented as “00”. Current Federal employees may be converted to a term appointment for up to five years.

B. Evaluation

Procedures for evaluating this authority will be incorporated into the STRL demonstration project evaluation processes conducted by the STRLs, OUSD(R&E), or specific military department headquarters, as appropriate.

C. Reports

STRLs will track and provide information and data on the use of this authority when requested by the Component headquarters or OUSD(R&E).

Dated: June 27, 2022.
Aaron T. Siegel,
Alternate OSD Federal Register Liaison Officer, Department of Defense.

Appendix A—Waivers to Title 5, U.S.C. and Title 5 CFR
Title 5, United States Code | Title 5, Code of Federal Regulations
5 U.S.C. 5303(f)—Annual adjustments to pay schedules. Waived to the extent to allow pay rates as described in this FRN
5 U.S.C. 5306(e)—Pay fixed by administrative action. Waived to the extent to allow pay rates as described in this FRN
5 U.S.C. 5307—Limitation on certain payments. Waived to the extent to allow payment of allowances, differentials, bonus, awards, or other similar cash payment to cause compensation during calendar year to exceed Level I of the Executive Schedule as described in this FRN | 5 CFR Parts 530.201—203—Aggregate limitation on pay. Waived to the extent to allow payment of allowances, differentials, bonus, awards, or other similar cash payment to cause compensation during calendar year to exceed Level I of the Executive Schedule as described in this FRN.
5 U.S.C. 5376—Pay for Certain senior level positions. Waived to the extent to allow pay rates as described in this FRN

Appendix B—Authorized STRLs and Federal Register Notices
STRL | Federal Register Notice
Air Force Research Laboratory | 61 FR 60400 amended by 75 FR 53076.
Joint Warfare Analysis Center | 85 FR 29414.
Army Futures Command | Not yet published.
Army Research Institute for Behavioral and Social Sciences | 85 FR 76038.
Combat Capabilities Development Command Armaments Center | 76 FR 3744.
Combat Capabilities Development Command Army Research Laboratory | 63 FR 10680.
Combat Capabilities Development Command Aviation and Missile Center | 62 FR 34906 and 62 FR 34876 amended by 65 FR 53142 (AVRDEC and AMRDEC merged together).
Combat Capabilities Development Command Chemical Biological Center | 74 FR 68936.
Command, Control, Communications, Cyber, Intelligence, Surveillance, and Reconnaissance Center | 66 FR 54872.
Combat Capabilities Development Command Ground Vehicle Systems Center | 76 FR 12508.
Combat Capabilities Development Command Soldier Center | 74 FR 68448.
Engineer Research and Development Center | 63 FR 14580 amended by 65 FR 32135.
Medical Research and Development Command | 63 FR 10440.
Technical Center, US Army Space and Missile Defense Command | 85 FR 3339.
Naval Air Systems Command Warfare Centers | 76 FR 8530.
Naval Facilities Engineering Command Systems Engineering and Expeditionary Warfare Center | 86 FR 14084.
Naval Information Warfare Centers, Atlantic and Pacific | 76 FR 1924.
Naval Medical Research Center | Not yet published.
Naval Research Laboratory | 64 FR 33970.
Naval Sea Systems Command Warfare Centers | 62 FR 64050.
Office of Naval Research | 75 FR 77380.

[FR Doc. 2022-14308 Filed 7-5-22; 8:45 am]

BILLING CODE 5001-06-P